DEPARTMENT OF HEALTH AND HUMAN SERVICES

Centers for Disease Control and Prevention

Disease, Disability, and Injury Prevention and Control Special Emphasis Panel (SEP): Factors Associated With the Uptake of Clinical Standards, Program Announcement Number 04089, and Increasing Influenza Vaccination of Long Term Care Facility Staff, Program Announcement Number 04090; Correction

Correction: This notice was published in the Federal Register on June 1, 2004, Volume 69, Number 105, Page 30931. The dates have been changed.

Times and Dates: 8 a.m.-8:30 a.m., June 28, 2004 (Open), 8:30 a.m.-4 p.m., June 28, 2004 (Closed).

FOR FURTHER INFORMATION CONTACT: Beth Gardner, National Immunization Program, Centers for Disease Control, 1600 Clifton Road, NE, MS-E05, Atlanta, GA 30333, Telephone (404) 639-6101.

The Director, Management Analysis and Services Office, has been delegated the authority to sign Federal Register notices pertaining to announcements of meetings and other committee management activities, for both CDC and the Agency for Toxic Substances and Disease Registry.

Dated: June 10, 2004.
Alvin Hall,
Director, Management Analysis and Services Office, Centers for Disease Control and Prevention (CDC).

[FR Doc. 04-13772 Filed 6-17-04; 8:45 am]

BILLING CODE 4163-18-P